DEPARTMENT OF ENERGY

Federal Energy Regulatory Commission

Combined Notice of Filings

Take notice that the Commission has received the following Natural Gas Pipeline Rate and Refund Report filings:

Filings Instituting Proceedings

Docket Numbers: RP17-686-000.

Applicants: East Tennessee Natural Gas, LLC.

Description: East Tennessee Natural Gas, LLC submits tariff filing per 154.204: Tate & Lyle Release to JAT Oil to be effective 5/1/2017.

Filed Date: 04/27/2017.

Accession Number: 20170427-5093.

Comment Date: 5:00 p.m. Eastern Time on Tuesday, May 9, 2017.

Docket Numbers: RP17-687-000.

Applicants: Iroquois Gas Transmission System, L.P.

Description: Iroquois Gas Transmission System, L.P. submits tariff filing per 154.204: 04/27/17 Negotiated Rates—ENI Trading & Shipping (RTS) 7825-02 to be effective 5/1/2017.

Filed Date: 04/27/2017.

Accession Number: 20170427-5094.

Comment Date: 5:00 p.m. Eastern Time on Tuesday, May 9, 2017.

Docket Numbers: RP17-688-000.

Applicants: Rockies Express Pipeline LLC.

Description: Rockies Express Pipeline LLC submits tariff filing per 154.204: Neg Rate 2017-04-27 CP to be effective 5/1/2017.

Filed Date: 04/27/2017.

Accession Number: 20170427-5161.

Comment Date: 5:00 p.m. Eastern Time on Tuesday, May 9, 2017.

Docket Numbers: RP17-689-000.

Applicants: Texas Eastern Transmission, LP.

Description: Texas Eastern Transmission, LP submits tariff filing per 154.203: TETLP OFO April 2017 Penalty Disbursement Report.

Filed Date: 04/27/2017.

Accession Number: 20170427-5220.

Comment Date: 5:00 p.m. Eastern Time on Tuesday, May 9, 2017.

Docket Numbers: RP17-690-000.

Applicants: Transcontinental Gas Pipe Line Company.

Description: Transcontinental Gas Pipe Line Company, LLC submits tariff filing per 154.204: Negotiated Rates—Cherokee AGL—Replacement Shippers—May 2017 to be effective 5/1/2017.

Filed Date: 04/27/2017.

Accession Number: 20170427-5255.

Comment Date: 5:00 p.m. Eastern Time on Tuesday, May 9, 2017.

Docket Numbers: RP17-691-000.

Applicants: Kern River Gas Transmission Company.

Description: Kern River Gas Transmission Company submits tariff filing per 154.204: 2017 Update Section 30.2(a) to be effective 5/1/2017.

Filed Date: 04/27/2017.

Accession Number: 20170427-5323.

Comment Date: 5:00 p.m. Eastern Time on Tuesday, May 9, 2017.

Docket Numbers: RP17-692-000.

Applicants: Millennium Pipeline Company, LLC.

Description: Millennium Pipeline Company, LLC submits tariff filing per 154.204: Section 4 Revisions to be effective 6/1/2017.

Filed Date: 04/27/2017.

Accession Number: 20170427-5369.

Comment Date: 5:00 p.m. Eastern Time on Tuesday, May 9, 2017.

Docket Numbers: RP17-693-000.

Applicants: El Paso Natural Gas Company, L.L.C.

Description: El Paso Natural Gas Company, L.L.C. submits tariff filing per 154.204: Negotiated Rate Agreement Filing (ARM May 17) to be effective 5/1/2017.

Filed Date: 04/27/2017.

Accession Number: 20170427-5418.

Comment Date: 5:00 p.m. Eastern Time on Tuesday, May 9, 2017.

Docket Numbers: RP17-197-004.

Applicants: Dominion Cove Point LNG, LP.

Description: Dominion Cove Point LNG, LP submits tariff filing per 154.203: DCP—RP17-197 Gas Quality Settlement Compliance to be effective 6/1/2017.

Filed Date: 04/28/2017.

Accession Number: 20170428-5367.

Comment Date: 5:00 p.m. Eastern Time on Wednesday, May 10, 2017.

Docket Numbers: RP17-694-000.

Applicants: Florida Gas Transmission Company, LLC.

Description: Florida Gas Transmission Company, LLC submits tariff filing per 154.204: Negotiated Rates Filing on 4-28-17 to be effective 5/1/2017.

Filed Date: 04/28/2017.

Accession Number: 20170428-5021.

Comment Date: 5:00 p.m. Eastern Time on Wednesday, May 10, 2017.

Docket Numbers: RP17-695-000.

Applicants: Texas Eastern Transmission, LP.

Description: Texas Eastern Transmission, LP submits tariff filing per 154.204: Negotiated Rate—Chevron to Exelon—8945651 to be effective 5/1/2017.

Filed Date: 04/28/2017.

Accession Number: 20170428-5079.

Comment Date: 5:00 p.m. Eastern Time on Wednesday, May 10, 2017.

Docket Numbers: RP17-696-000.

Applicants: Millennium Pipeline Company, LLC.

Description: Millennium Pipeline Company, LLC submits tariff filing per 154.204: AutoPALS Filing to be effective 6/1/2017.

Filed Date: 04/28/2017.

Accession Number: 20170428-5115.

Comment Date: 5:00 p.m. Eastern Time on Wednesday, May 10, 2017.

Docket Numbers: RP17-697-000.

Applicants: Northern Natural Gas Company.

Description: Northern Natural Gas Company submits tariff filing per 154.204: 20170428 Negotiated Rate to be effective 5/1/2017.

Filed Date: 04/28/2017.

Accession Number: 20170428-5197.

Comment Date: 5:00 p.m. Eastern Time on Wednesday, May 10, 2017.

Docket Numbers: RP17-698-000.

Applicants: Cheyenne Plains Gas Pipeline Company, L.

Description: Cheyenne Plains Gas Pipeline Company, L.L.C. submits tariff filing per 154.403(d)(2): Fuel, L&U and Housekeeping Update Filing to be effective 6/1/2017.

Filed Date: 04/28/2017.

Accession Number: 20170428-5199.

Comment Date: 5:00 p.m. Eastern Time on Wednesday, May 10, 2017.

Docket Numbers: RP17-699-000.

Applicants: Texas Gas Transmission, LLC.

Description: Texas Gas Transmission, LLC submits tariff filing per 154.204: Edgemarc to EM Energy OHIO, Consent to Assign Filing to be effective 5/1/2017.

Filed Date: 04/28/2017.

Accession Number: 20170428-5209.

Comment Date: 5:00 p.m. Eastern Time on Wednesday, May 10, 2017.

Docket Numbers: RP17-700-000.

Applicants: Gulf South Pipeline Company, LP.

Description: Gulf South Pipeline Company, LP submits tariff filing per 154.204: CR w/NC NR provs (Oglethorpe 8482 to NJR 47984) to be effective 5/1/2017.

Filed Date: 04/28/2017.

Accession Number: 20170428-5272.

Comment Date: 5:00 p.m. Eastern Time on Wednesday, May 10, 2017.

Docket Numbers: RP17-701-000.

Applicants: Natural Gas Pipeline Company of America.

Description: Natural Gas Pipeline Company of America LLC submits tariff filing per 154.204: North Shore Gas Negotiated Rate to be effective 5/1/2017.

Filed Date: 04/28/2017.

Accession Number: 20170428-5280.

Comment Date: 5:00 p.m. Eastern Time on Wednesday, May 10, 2017.

Docket Numbers: RP17-702-000.

Applicants: Gulf South Pipeline Company, LP.

Description: Gulf South Pipeline Company, LP submits tariff filing per 154.204: Cap Rel Neg Rate Agmt (EOG 34687 to Sequent 48117) to be effective 5/1/2017.

Filed Date: 04/28/2017.

Accession Number: 20170428-5297.

Comment Date: 5:00 p.m. Eastern Time on Wednesday, May 10, 2017.

Docket Numbers: RP17-703-000.

Applicants: Gulf South Pipeline Company, LP.

Description: Gulf South Pipeline Company, LP submits tariff filing per 154.204: Amendment to Neg Rate Agmt (Methanex 42805-8) to be effective 5/1/2017.

Filed Date: 04/28/2017.

Accession Number: 20170428-5301.

Comment Date: 5:00 p.m. Eastern Time on Wednesday, May 10, 2017.

Docket Numbers: RP17-704-000.

Applicants: Gulf South Pipeline Company, LP.

Description: Gulf South Pipeline Company, LP submits tariff filing per 154.204: Cap Rel Neg Rate Agmt (Encana 37663 to CenterPoint 48119) to be effective 5/1/2017.

Filed Date: 04/28/2017.

Accession Number: 20170428-5303.

Comment Date: 5:00 p.m. Eastern Time on Wednesday, May 10, 2017.

Docket Numbers: RP17-705-000.

Applicants: Gulf South Pipeline Company, LP.

Description: Gulf South Pipeline Company, LP submits tariff filing per 154.204: Cap Rel Neg Rate Agmts (So Co 41616, 41617 to Tenaska 48156, 48154) to be effective 5/1/2017.

Filed Date: 04/28/2017.

Accession Number: 20170428-5306.

Comment Date: 5:00 p.m. Eastern Time on Wednesday, May 10, 2017.

Docket Numbers: RP17-706-000.

Applicants: Gulf South Pipeline Company, LP.

Description: Gulf South Pipeline Company, LP submits tariff filing per 154.204: Cap Rel Neg Rate Agmts (Atlanta 8438 to various eff 5-1-17) to be effective 5/1/2017.

Filed Date: 04/28/2017.

Accession Number: 20170428-5308.

Comment Date: 5:00 p.m. Eastern Time on Wednesday, May 10, 2017.

Docket Numbers: RP17-707-000.

Applicants: Rockies Express Pipeline LLC.

Description: Rockies Express Pipeline LLC submits tariff filing per 154.204: Neg Rate 2017-04-28 Vectren and perm CR to EM Ohio to be effective 5/1/2017.

Filed Date: 04/28/2017.

Accession Number: 20170428-5311.

Comment Date: 5:00 p.m. Eastern Time on Wednesday, May 10, 2017.

Docket Numbers: RP17-708-000.

Applicants: Gulf South Pipeline Company, LP.

Description: Gulf South Pipeline Company, LP submits tariff filing per 154.204: Cap Rel Neg Rate Agmt (Encana 37663 to Texla 48160) to be effective 5/1/2017.

Filed Date: 04/28/2017.

Accession Number: 20170428-5312.

Comment Date: 5:00 p.m. Eastern Time on Wednesday, May 10, 2017.

Docket Numbers: RP17-709-000.

Applicants: Discovery Gas Transmission LLC.

Description: Imbalance Cash-out Report for 2016 Activity for Discovery Gas Transmission LLC.

Filed Date: 04/27/2017.

Accession Number: 20170427-5548.

Comment Date: 5:00 p.m. Eastern Time on Tuesday, May 09, 2017.

Docket Numbers: RP17-710-000.

Applicants: Kern River Gas Transmission Company.

Description: Kern River Gas Transmission Company submits tariff filing per 154.204: 2017 Creditworthiness to be effective 6/1/2017.

Filed Date: 04/28/2017.

Accession Number: 20170428-5424.

Comment Date: 5:00 p.m. Eastern Time on Wednesday, May 10, 2017.

Docket Numbers: RP17-711-000.

Applicants: El Paso Natural Gas Company, L.L.C.

Description: El Paso Natural Gas Company, L.L.C. submits tariff filing per 154.601: Negotiated Rate Agreement Update (APS May 2017) to be effective 5/1/2017.

Filed Date: 04/28/2017.

Accession Number: 20170428-5466.

Comment Date: 5:00 p.m. Eastern Time on Wednesday, May 10, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 1, 2017.
Kimberly D. Bose,
Secretary.

[FR Doc. 2017-09122 Filed 5-4-17; 8:45 am]

BILLING CODE 6717-01-P